DEPARTMENT OF TRANSPORTATION

National Highway Traffic Safety Administration

Reports, Forms, and Record Keeping Requirements Agency Information Collection Activity Under OMB Review

AGENCY: National Highway Traffic Safety Administration (NHTSA), DOT.

ACTION: Notice of the OMB review of information collection and solicitation of public comment.

SUMMARY: In compliance with the Paperwork Reduction Act of 1995, this notice announces that the Information Collection Request (ICR) abstracted below will be submitted to the Office of Management and Budget (OMB) for review. The ICR describes the nature of the information collection and its expected burden.

DATES: Submit comments to the Office of Management and Budget (OMB) on or before April 9, 2018.

ADDRESSES: Send comments regarding the burden estimate, including suggestions for reducing the burden, to the Office of Information and Regulatory Affairs, Office of Management and Budget, 725 17th Street NW, Washington, DC 20503, Attention: Desk Officer for Department of Transportation, National Highway Traffic Safety Administration, or by email at oira_submission@omb.eop.gov, or fax: 202-395-5806.

FOR FURTHER INFORMATION CONTACT: Randolph Atkins at the National Highway Traffic Safety Administration, Office of Behavioral Safety Research (NTI-131), W46-500, Department of Transportation, 1200 New Jersey Avenue SE, Washington, DC 20590. Dr. Atkins' phone number is 202-366-5597 and his email address is randolph.atkins@dot.gov.

SUPPLEMENTARY INFORMATION: A Federal Register notice with a 60-day comment period soliciting public comments on the following information collection was published on August 9, 2017 (82 FR 37287-37288).

OMB Control Number: 2127—New.

Title: Compliance-Based Ignition Interlock Removal.

Form No.: NHTSA 1395.

Type of Review: Regular.

Respondents: NHTSA has identified 31 States that conduct some type of Compliance Based Removal (CBR) of Breath Alcohol Ignition Interlock Devices (BAIIDs). The number of participants will vary for each State. We estimate an average of three participants per State. Most participants will be State officials and these individuals will provide most of the necessary information for each State. We anticipate that in some instances State officials will refer us to representatives of interlock providers to obtain data not available to the State official. The data to be collected is administrative in nature. No personally identifiable data will be collected. We will not be collecting data that is commonly considered sensitive or private.

Estimated Number of Respondents: An estimated sample size of 93 respondents (3 respondents per state for each of the 31 states identified as having some form of CBR for BAIIDs).

Estimated Time per Response: The average amount of time for each respondent to complete the information collection is estimated at 20 minutes. This includes any time needed to retrieve information.

Total Estimated Annual Burden Hours: 62 hours.

Frequency of Collection: The information collection will be administered a single time.

Abstract: Alcohol impairment is one of the primary causes of motor vehicle crashes on the Nation's highways. In 2016, 28 percent of all motor-vehicle traffic fatalities involved alcohol impairment, resulting in the loss of 10,497 lives. A vehicle equipped with a BAIID requires the driver to provide a breath sample to start the vehicle. If the breath sample is above a set limit for Breath Alcohol Concentration (BrAC), then the vehicle will not start. BAIIDs have been shown to reduce driving-under-the-influence (DUI) recidivism of DUI offenders who have BAIIDs installed on their vehicles; however, the effect tends to dissipate once the devices are removed. The data generated by the BAIIDs can be used to identify offenders unable to comply with interlock program requirements. It is believed that these are the offenders most likely to recidivate. CBR programs are designed to reduce recidivism by delaying removal of the BAIID for these offenders.

The purpose of the study is to provide critical information needed by NHTSA to determine the effects of CBR on DUI recidivism, as well as information on the types of CBR policies currently in place. This information will be useful to States interested in instituting or changing CBR policies in their own interlock programs to help reduce deaths and injuries associated with DUI. The data collected will be used to assist NHTSA in its ongoing responsibilities for: (a) Developing an accurate understanding of potential traffic safety interventions on a national scale; (b) providing information to NHTSA's partners involved in improving public safety; and (c) providing sound scientific reports on NHTSA's activities to other public safety researchers.

The study will be conducted in two phases. In phase one, information will be collected on the details of the States' implementation of CBR and information on their CBR-related data to identify States with sufficient data to conduct an evaluation of the effects of CBR on DUI recidivism. It will also identify States' interested in participating in an evaluation of CBR effectiveness. We anticipate that information will come from State officials familiar with their States' interlock programs. It may also be necessary to collect data from interlock providers in those States. We estimate that this phase of data collection will involve contacting and interviewing an average of three people per State (93 total). Initial contacts will be made by telephone and email. Data will then be collected through semi-structured face-to-face and telephone interviews. The second phase of the study will be an evaluation of CBR effectiveness using the States' existing data. These evaluations will be conducted in up to four States, depending on phase one findings regarding data availability and interest in participation.

Comments are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC, on March 6, 2018.
Jeff Michael,
Associate Administrator, Research and Program Development.

[FR Doc. 2018-04755 Filed 3-8-18; 8:45 am]

BILLING CODE 4910-59-P